NATIONAL ARCHIVES AND RECORDS ADMINISTRATION

[NARA-2025-005]

Agency Information Collection Activities: Proposed Collection; Comment Request

AGENCY: National Archives and Records Administration (NARA).

ACTION: Notice of proposed extension request.

SUMMARY: We are proposing to request an extension from the Office of Management and Budget (OMB) of three currently approved information collections. People use the first information collection to request permission to film, photograph, or videotape at a NARA facility for news purposes. People use the second information collection to request permission to use NARA facilities for events in the Washington, DC, area, at a federal records center, or at a Presidential library. The third information collection, Independent Researcher Listing Application, NA Form 14115, is used by independent researchers to provide their contact information. We invite you to comment on these proposed information collections pursuant to the Paperwork Reduction Act of 1995.

DATES: We must receive written comments on or before December 31, 2024.

ADDRESSES: Send comments to Paperwork Reduction Act Comments (MP), Room 4100; National Archives and Records Administration; 8601 Adelphi Road; College Park, MD 20740-6001, or email them to kellie.shipley@nara.gov.

FOR FURTHER INFORMATION CONTACT: Kellie Shipley, Paperwork Reduction Act Officer, by email at kellie.shipley@nara.gov or by telephone at 301.837.0685 with requests for additional information or copies of the proposed information collection and supporting statement.

SUPPLEMENTARY INFORMATION: Pursuant to the Paperwork Reduction Act of 1995 (Pub. L. 104-13), we invite the public and other Federal agencies to comment on proposed information collections. If you have comments or suggestions, they should address one or more of the following points: (a) whether the proposed information collection is necessary for NARA to properly perform its functions; (b) our estimate of the burden of the proposed information collection and its accuracy; (c) ways we could enhance the quality, utility, and clarity of the information we collect; (d) ways we could minimize the burden on respondents of collecting the information, including through information technology; and (e) whether the collection affects small businesses. We will summarize any comments you submit and include the summary in our request for OMB approval. All comments will become a matter of public record. In this notice, we solicit comments concerning the following information collections:

1. Title: Request to film, photograph, or videotape at a NARA facility for news purposes.

OMB number: 3095-0040.

Agency form number: NA Form 11010 (Use of Equipment Consent Waiver and Release).

Type of review: Regular.

Affected public: Business or other for-profit, not-for-profit institutions.

Estimated number of respondents: 350.

Estimated time per response: 10 minutes.

Frequency of response: On occasion.

Estimated total annual burden hours: 58.

Abstract: The information collection is prescribed by 36 CFR 1280.48. The collection is prepared by organizations that wish to film, photograph, or videotape on NARA property for news purposes. We need the information to determine if the request complies with NARA regulations, to ensure protection of archival holdings, and to schedule the filming appointment.

2. Title: Request to use NARA facilities in the Washington, DC, area, public spaces at Federal records centers, or Presidential library and grounds, for events.

OMB number: 3095-0043.

Agency form number: NA Form 16011 (Application and permit for use of space in Presidential library and grounds).

Type of review: Regular.

Affected public: Not-for-profit institutions, individuals or households, business or other for-profit, private organizations, Federal Government.

Estimated number of respondents: 300 for facilities in the Washington, DC, area and Federal records centers; 500 for Presidential library facilities and grounds.

Estimated time per response: 30 minutes for facilities in the Washington, DC, area and Federal records centers; 20 minutes for Presidential library facilities and grounds.

Frequency of response: On occasion.

Estimated total annual burden hours: 150 hours for facilities in the Washington, DC., area and Federal records centers; 165 hours for Presidential library facilities and grounds.

Abstract: The information collection is prescribed by 36 CFR 1280.64. Requesters submit the information when they wish to use NARA public areas in the Washington, DC, area or public spaces at Federal records centers for an event, or they submit the application to request the use of space in a Presidential library for a privately sponsored activity. We use the information to determine whether or not we can accommodate the request and date, whether the requested use meets the criteria in 36 CFR part 1280, and to ensure that the proposed event complies with NARA regulations.

3. Title: Independent Researcher Listing Application.

OMB number: 3095-0054.

Agency form numbers: NA Form 14115 (Independent Researcher Listing Application).

Type of review: Regular.

Affected public: Individuals or households.

Estimated number of respondents: 300.

Estimated time per response: 10 minutes.

Frequency of response: On occasion.

Estimated total annual burden hours: 50.

Abstract: In the past, the National Archives has made use of various lists of independent researchers who perform freelance research for hire in the Washington, DC, area. We have sent these lists upon request to researchers who could not travel to the metropolitan area to conduct their own research. To better accommodate both the public and NARA staff, the Archival Operations division of the National Archives maintains a listing of independent researchers for the public. All interested independent researchers provide their contact information via this form. Collecting contact and other key information from each independent researcher and providing such information to the public when deemed appropriate will only increase business. This form is not a burden in any way to any independent researcher who voluntarily submits a completed form. Inclusion on the list will not be viewed or advertised as an endorsement by the National Archives and Records Administration (NARA). The listing is compiled and disseminated as a service to the public.

Sheena Burrell,
Executive for Information Services/CIO.

[FR Doc. 2024-25495 Filed 10-31-24; 8:45 am]

BILLING CODE 7515-01-P